CONSUMER PRODUCT SAFETY COMMISSION

[Docket No. CPSC-2010-0056]

Agency Information Collection Activities; Proposed Extension of Approval of Information Collection; Comment Request—Safety Standard for Bicycle Helmets

AGENCY: Consumer Product Safety Commission.

ACTION: Notice.

SUMMARY: As required by the Paperwork Reduction Act of 1995, the Consumer Product Safety Commission (CPSC or Commission) requests comments on a proposed extension of approval for a collection of information relating to the Safety Standard for Bicycle Helmets. The Office of Management and Budget (OMB) previously approved the collection of information under control number 3041-0127. OMB's most recent extension of approval will expire on January 31, 2024. The Commission will consider all comments received in response to this notice before requesting an extension of approval of this collection of information from OMB.

DATES: Submit comments on the collection of information by January 16, 2024.

ADDRESSES: You may submit comments, identified by Docket No. CPSC-2010-0056, by any of the following methods:

Electronic Submissions: Submit electronic comments to the Federal eRulemaking Portal at: http://www.regulations.gov. Follow the instructions for submitting comments. Do not submit through this website: confidential business information, trade secret information, or other sensitive or protected information that you do not want to be available to the public. The Commission typically does not accept comments submitted by email, except as described below.

Mail/Hand Delivery/Courier/Written Submissions: CPSC encourages you to submit electronic comments by using the Federal eRulemaking Portal. You may, however, submit comments by mail/hand delivery/courier to: Office of the Secretary, Consumer Product Safety Commission, 4330 East West Highway, Bethesda, MD 20814; telephone (301) 504-7923.

Instructions: All submissions received must include the agency name and docket number for this notice. CPSC may post all comments without change, including any personal identifiers, contact information, or other personal information provided, to: http://www.regulations.gov. If you wish to submit confidential business information, trade secret information, or other sensitive or protected information that you do not want to be available to the public, you may submit such comments by mail, hand delivery, or courier, or you may email them to cpsc-os@cpsc.gov.

Docket: For access to the docket to read background documents or comments received, go to: https://www.regulations.gov, insert docket number CPSC-2010-0056 into the “Search” box, and follow the prompts.

FOR FURTHER INFORMATION CONTACT: Cynthia Gillham, Consumer Product Safety Commission, 4330 East West Highway, Bethesda, MD 20814; (301) 504-7791, or by email to: pra@cpsc.gov.

SUPPLEMENTARY INFORMATION: CPSC seeks to extend the following collection of information:

Title: Safety Standard for Bicycle Helmets.

OMB Number: 3041-0127.

Type of Review: Extension of collection.

Frequency of Response: On occasion.

Affected Public: Manufacturers and importers of bicycle helmets.

Estimated Number of Respondents: The Commission estimates that 38 manufacturers and importers will issue certificates on an estimated total of 200 models annually, including both older models and new models.

Estimated Time per Response: The Commission estimates that manufacturers and importers will require 4 hours per model for recordkeeping and certification activities each year.

Total Estimated Annual Burden: Based on CPSC's estimates that manufacturers and importers will conduct recordkeeping and reporting activities for a total of 200 models, and that a total of 4 hours will be required per model, CPSC estimates that the total annual burden of this collection is 800 hours. The annualized cost to respondents for the information collection is $26,944 (800 hours × $33.68/hr), as estimated from total compensation data available from the U.S. Bureau of Labor Statistics.¹

¹ Total hourly compensation for office and administrative support occupations in goods-producing industries is estimated by the U.S. Bureau of Labor Statistics to be $33.68: Employer Costs for Employee Compensation, March 2023, Table 4: (https://www.bls.gov/news.release/archives/ecec_06162023.pdf).

General Description of Collection: In 1998, the Commission issued a safety standard for bicycle helmets (16 CFR part 1203). The standard includes requirements for labeling and instructions. The standard also requires that manufacturers and importers of bicycle helmets subject to the standard issue certificates of compliance based on a reasonable testing program. Every person issuing certificates of compliance must maintain records of their testing so the Commission can verify that the testing was conducted properly. Respondents must comply with the requirements in 16 CFR part 1203 for labeling and instructions, testing, certification, and recordkeeping.

Request for Comments:

The Commission solicits written comments from all interested persons about the proposed collection of information. The Commission specifically solicits information relevant to the following topics:

• whether the collection of information described above is necessary for the proper performance of the Commission's functions, including whether the information would have practical utility;

• whether the estimated burden of the proposed collection of information is accurate;

• whether the quality, utility, and clarity of the information to be collected could be enhanced; and

• whether the burden imposed by the collection of information could be minimized by use of automated, electronic or other technological collection techniques, or other forms of information technology.

Alberta E. Mills,
Secretary, Consumer Product Safety Commission.

[FR Doc. 2023-25192 Filed 11-14-23; 8:45 am]

BILLING CODE 6355-01-P